Title 3—

The President

Executive Order 13703 of July 30, 2015

Implementing the National HIV/AIDS Strategy for the United States for 2015-2020

By the authority vested in me as President by the Constitution and the laws of the United States of America, and in order to ensure improved health outcomes for Americans at risk for or living with HIV/AIDS and achieve greater coordination across the Federal Government, I hereby order as follows:

Section 1. Policy. My Administration has made substantial progress in addressing the domestic HIV epidemic since the National HIV/AIDS Strategy for the United States (Strategy), the first of its kind, was released in July 2010. The Strategy has served as a blueprint for executive departments and agencies (agencies) as well as for community partners in the private and nonprofit sectors. This effort has led to increased coordination and collaboration among agencies and fostered the use of evidence-based policy approaches for improving HIV prevention and care.

Federal, State, and local agencies have contributed to significant improvements in health outcomes through their enhanced focus on the HIV care continuum—the sequential stages of care from being diagnosed to achieving viral suppression. Our partners across all levels of government and all sectors of society have also worked to ensure that all Americans living with HIV/AIDS receive our full support at every stage of their illness.

Further, my Administration has been committed to reducing the HIV-related disparities experienced by certain populations, including gay and bisexual men of all races and ethnicities, Black women and men, Latino women and men, people who inject drugs, youth aged 13-24, people in the Southern United States, and transgender women. Addressing the intersection between HIV/AIDS, violence against women and girls, and gender-related health disparities has also been a priority. The Working Group on the Intersection of HIV/AIDS, Violence Against Women and Girls, and Gender-related Health Disparities established in my memorandum of March 30, 2012, has focused its efforts on increasing screenings for HIV and intimate partner violence, addressing violence and trauma when supporting women in HIV care, and expanding public education efforts across all levels of government regarding HIV and violence against women and girls.

Today, I am releasing the National HIV/AIDS Strategy for the United States: Updated to 2020 (Updated Strategy) to build on this progress. The Updated Strategy integrates the recommendations of the HIV Care Continuum Working Group, established in Executive Order 13649 of July 15, 2013 (HIV Care Continuum Initiative), and the recommendations of the Working Group on the Intersection of HIV/AIDS, Violence Against Women and Girls, and Gender-related Health Disparities, so that their work can inform the Nation's response to the domestic HIV/AIDS epidemic. The Updated Strategy also takes into account recent research advancements in our understanding of HIV/AIDS, and builds on the historic successes of the Affordable Care Act, which is helping millions of Americans, including those who are living with HIV, access affordable, quality health care.

This order is designed to ensure successful implementation of the Updated Strategy by requiring coordination and collaboration by, and accountability of, the Federal Government; fostering enhanced and innovative partnerships with State, tribal, and local governments; and encouraging the commitment of all parts of society. The duties and authorities this order assigns are in addition to those assigned by my memorandum of July 13, 2010 (Implementation of the National HIV/AIDS Strategy). In light of recent progress and continuing challenges, we must continue to improve our national effort to reduce new HIV infections, increase access to care for people living with HIV, reduce HIV-related disparities and health inequities, and achieve greater coordination across all levels of government.

Sec. 2. Role of the White House Office of National AIDS Policy (ONAP). (a) The Director of ONAP, in consultation with the Director of the Office of Management and Budget (OMB), shall be responsible for monitoring the implementation of the Updated Strategy.

(b) The Director of ONAP shall annually report to the President on the implementation of the Updated Strategy, including progress in meeting key targets and taking key actions identified in the Updated Strategy and the Federal Action Plan, an annual guidepost developed by ONAP in conjunction with agencies, designed to implement new efforts to address the domestic HIV/AIDS epidemic.

Sec. 3. Lead Agency Responsibilities. While the Updated Strategy will require a Government-wide effort in order to succeed fully, certain agencies have primary responsibilities and competencies in implementing the Updated Strategy.

(a) Designation of Lead Agencies. Lead agencies for implementing the Updated Strategy shall be:

(i) the Department of Defense;

(ii) the Department of Justice;

(iii) the Department of the Interior;

(iv) the Department of Labor;

(v) the Department of Health and Human Services;

(vi) the Department of Housing and Urban Development;

(vii) the Department of Education;

(viii) the Department of Veterans Affairs;

(ix) the Department of Homeland Security; and

(x) the Social Security Administration.

(b) Lead Agency Action Plans. Within 100 days of the date of this order, the head of each lead agency shall submit a report to ONAP and OMB on the agency's action plan for implementing the Updated Strategy. The plans shall assign responsibilities to agency officials, designate reporting structures for actions identified in the Federal Action Plan, and identify other appropriate actions to advance the Updated Strategy. The plans shall also include steps to strengthen coordination in planning, budgeting for, and evaluating domestic HIV/AIDS programs within and across agencies. Lead agencies are encouraged to consider, and reflect in their plans, steps to streamline grantee reporting requirements and funding announcements related to HIV/AIDS programs and activities.

(c) Ongoing Responsibilities of Lead Agencies. The head of each lead agency shall:

(i) designate an official responsible for coordinating the agency's ongoing efforts to implement the Updated Strategy;

(ii) develop and support a process for sharing progress reports, including status updates on achieving specific quantitative targets established by the Updated Strategy, with relevant agencies and ONAP on an annual basis, or at such other times as ONAP requests; and

(iii) in consultation with OMB, use the budget development process to prioritize programs and activities most critical to meeting the goals of the Updated Strategy.

Sec. 4. Other Agency Responsibilities. All agencies that support HIV/AIDS programs and activities shall ensure that, to the extent permitted by law, they are meeting the goals of the Updated Strategy.

(a) Department of State. Within 100 days of the date of this order, the Secretary of State shall submit to ONAP and OMB recommendations for improving the Government-wide response to the domestic HIV/AIDS epidemic, based on lessons learned in implementing the President's Emergency Plan for AIDS Relief program.

(b) Equal Employment Opportunity Commission (Commission). Within 100 days of the date of this order, the Chair of the Commission shall submit to ONAP and OMB recommendations for increasing employment opportunities for people living with HIV and a plan for addressing employment-related discrimination against people living with HIV, consistent with the Commission's authorities and other applicable law.

Sec. 5. Role of the Presidential Advisory Council on HIV/AIDS (PACHA). The PACHA, which was established by Executive Order 12963 of June 14, 1995 (Presidential Advisory Council on HIV/AIDS), as amended, shall monitor the implementation of the Updated Strategy and make recommendations to the Secretary of Health and Human Services (Secretary) and to the Director of ONAP, as appropriate, concerning implementation and progress in achieving the Updated Strategy's goals.

Sec. 6. National HIV/AIDS Strategy Federal Interagency Working Group. There is established the National HIV/AIDS Strategy Federal Interagency Working Group (Federal Interagency Working Group) to support the implementation of the Updated Strategy.

(a) Membership. The Federal Interagency Working Group shall be co-chaired by the Director of ONAP and the Secretary or their designees. In addition to the Co-Chairs, the Federal Interagency Working Group shall consist of representatives from each lead agency, OMB, and any other agency or office designated by the Co-Chairs.

(b) Consultation. The Federal Interagency Working Group shall consult with the PACHA, as appropriate.

(c) Outreach. The Federal Interagency Working Group shall hold regular meetings and conduct outreach with representatives of private and nonprofit organizations, State, tribal, and local governments and agencies, elected officials, and other interested persons to assist the Federal Interagency Working Group in its efforts.

(d) Functions. As part of its efforts, the Federal Interagency Working Group shall:

(i) request and review information from agencies describing their efforts to implement the Updated Strategy;

(ii) share and disseminate best practices to combat the HIV epidemic among agencies and other stakeholders;

(iii) integrate new HIV-related research results into the overall implementation of the Updated Strategy;

(iv) obtain input from community partners, scientific and technical experts, and stakeholders in State, tribal, and local governments to inform implementation of the Updated Strategy;

(v) increase government and public awareness of HIV-related issues;

(vi) specify how to better align and coordinate Federal efforts, both within and across agencies, to improve health outcomes for Americans at risk for or living with HIV; and

(vii) integrate the Working Group on the Intersection of HIV/AIDS, Violence Against Women and Girls, and Gender-related Health Disparities into the implementation of the Updated Strategy.

(e) Reporting.

(i) Within 100 days of the date of this order, the Federal Interagency Working Group shall provide recommendations to the President on actions that agencies should take to implement the Updated Strategy through 2020.

(ii) The Director of ONAP shall include, as part of the Director's annual report to the President, a report prepared by the Federal Interagency Working Group concerning Government-wide progress in implementing the Updated Strategy.

Sec. 7. General Provisions. (a) Nothing in this order shall be construed to impair or otherwise affect:

(i) the authority granted by law to an executive department, agency, or the head thereof; or

(ii) the functions of the Director of OMB relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

July 30, 2015.

[FR Doc. 2015-19209

Filed 8-3-15; 8:45 am]

Billing code 3295-F5